DEPARTMENT OF ENERGY

Federal Energy Regulatory Commission

[Docket Nos. ER03-1102-003, ER03-1102-004, EL05-14-000]

California Independent System Operator Corporation; Notice of Technical Conference

December 3, 2004.

Take notice that a technical conference will be held on Wednesday, January 12, 2005, and Thursday, January 13, 2005, beginning at 9 a.m. (e.s.t.), in Room 3M-2B at the offices of the Federal Energy Regulatory Commission, 888 First Street, NE., Washington, DC 20426. Pursuant to the Commission's October 28, 2004, Order,¹ the technical conference will afford the parties an opportunity to discuss the California Independent System Operator Corporation's (CAISO) proposed “self-certification” process and any party's alternate proposal on how best to achieve the CAISO's objective based upon the presentation of proposals at the technical conference. All proposals must be submitted within 30 days of the date of this notice. Parties must be prepared to discuss their proposals at the technical conference.

¹ California Indep. Sys. Operator Corp., 109 FERC ¶ 61,087 at P 52 (2004).

All interested persons and staff are permitted to attend.

Magalie R. Salas,
Secretary.

[FR Doc. E4-3566 Filed 12-8-04; 8:45 am]

BILLING CODE 6717-01-P